DEPARTMENT OF HEALTH AND HUMAN SERVICES

Centers for Disease Control and Prevention

[Docket Number NIOSH-210]

A Review of Information Published Since 1995 on Coal Mine Dust Exposures and Associated Health Outcomes

AGENCY: National Institute for Occupational Safety and Health (NIOSH) of the Centers for Disease Control and Prevention (CDC), Department of Health and Human Services (HHS).

ACTION: Notice of draft document available for public comment.

SUMMARY: The National Institute for Occupational Safety and Health of the Centers for Disease Control and Prevention announces the availability of a draft Current Intelligence Bulletin entitled “A Review of Information Published Since 1995 on Coal Mine Dust Exposures and Associated Health Outcomes” now available for public comment. The draft document and instructions for submitting comments can be found at: http://www.cdc.gov/niosh/docket/review/docket210/default.html. This document updates and supports the coal mine dust Recommended Exposure Limit (REL) of 1 mg/m³ that was recommended in the 1995 document, “Criteria for a Recommended Standard: Occupational Exposure to Respirable Coal Mine Dust, (1995-106)” which can be viewed at: http://www.cdc.gov/niosh/95-106.html.

This guidance does not have the force and effect of the law.

Public Comment Period: Comments must be received by September 24, 2010.

ADDRESSES: Written comments may be submitted to the NIOSH Docket Office, identified by Docket Number NIOSH-210, by any of the following methods:

• Mail: NIOSH Docket Office, Robert A. Taft Laboratories, MS-C34, 4676 Columbia Parkway, Cincinnati, Ohio 45226.

• Facsimile: (513) 533-8285.

• E-mail: nioshdocket@cdc.gov.

All information received in response to this notice will be available for public examination and copying at the NIOSH Docket Office, 4676 Columbia Parkway, Room 111, Cincinnati, Ohio 45226. A complete electronic docket containing all comments submitted will be available on the NIOSH Web page at http://www.cdc.gov/niosh/docket, and comments will be available in writing by request. NIOSH includes all comments received without change in the docket, including any personal information provided. All electronic comments should be formatted as Microsoft Word. Please make reference to Docket Number NIOSH- 210.

FOR FUTHER INFORMATION CONTACT: Michael D. Attfield, Ph.D., telephone (304) 285-5737, e-mail mda1@cdc.gov or Eileen Storey, M.D., telephone (304) 285-6382, e-mail eps4@cdc.gov, NIOSH, 1095 Willowdale Road, Morgantown, WV 26505.

Dated: August 17, 2010.
John Howard,
Director, National Institute for Occupational Safety and Health, Centers for Disease Control and Prevention.

[FR Doc. 2010-21187 Filed 8-24-10; 8:45 am]

BILLING CODE 4163-19-P